DEPARTMENT OF COMMERCE

National Oceanic and Atmospheric Administration

[RTID 0648-XC492]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's Protected Resources Committee will hold a public meeting via webinar.

DATES: The meeting will be held on Monday, November 14, 2022, from 9 a.m. to 12 p.m. See SUPPLEMENTARY INFORMATION for agenda details.

ADDRESSES: The meeting will be held via webinar. Details on the agenda, webinar listen-in access, and briefing materials will be posted at the MAFMC's website: www.mafmc.org.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Mid-Atlantic Fishery Management Council's Protected Resources Committee will meet to review materials resulting from their data request to the Atlantic Large Whale Take Reduction Team (ALWTRT) and discuss potential sets of measures. The ALWTRT is tasked with reducing the risk of entanglement to right whales in U.S. East Coast fixed gear fisheries including gillnet, mixed species trap/pot, and lobster and Jonah crab trap/pot fisheries. The measures developed by the ALWTRT have the potential to impact several Council managed fisheries and the Protected Resources Committee will develop recommendations and guidance for the Council's representation on the ALWTRT. The ALWTRT is currently scheduled to make final recommendations at their December 1-2 meeting, however this may be subject to change. The Committee may address other protected resources issues as they arise.

Special Accommodations

The meeting is physically accessible to people with disabilities. Requests for sign language interpretation or other auxiliary aids should be directed to Shelley Spedden at the Council Office, (302) 526-5251, at least 5 days prior to the meeting date.

Authority: 16 U.S.C. 1801 et seq.

Dated: October 21, 2022.
Rey Israel Marquez,
Acting Deputy Director, Office of Sustainable Fisheries, National Marine Fisheries Service.

[FR Doc. 2022-23332 Filed 10-25-22; 8:45 am]

BILLING CODE 3510-22-P